ENVIRONMENTAL PROTECTION AGENCY

[EPA-HQ-OAR-2006-0745; FRL-9797-7]

Proposed Information Collection Request; Comment Request; Reformulated Gasoline Commingling Provisions

AGENCY: Environmental Protection Agency (EPA).

ACTION: Notice.

SUMMARY: The Environmental Protection Agency is planning to submit an information collection request (ICR), “Reformulated Gasoline Commingling Provisions” (EPA ICR No.2228.04, OMB Control No. 2060-0587) to the Office of Management and Budget (OMB) for review and approval in accordance with the Paperwork Reduction Act (44 U.S.C. 3501 et seq.). Before doing so, EPA is soliciting public comments on specific aspects of the proposed information collection as described below. This is a “RENEWAL” of the ICR, which is currently approved through August 31, 2013. An Agency may not conduct or sponsor and a person is not required to respond to a collection of information unless it displays a currently valid OMB control number.

DATES: Comments must be submitted on or before June 3, 2013.

ADDRESSES: Submit your comments, referencing Docket ID No. EPA-HQ-OAR-2006-0745 online using www.regulations.gov, or in person viewing at the Air Docket in the EPA Docket Center in Washington, DC (EPA/DC). The docket is located in the EPA West Building, 1301 Constitution Avenue NW., Room 3334, and is open from 8:30 a.m. to 4:30 p.m. Eastern Standard Time, Monday through Friday, excluding legal holidays, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Geanetta Heard, Fuels Compliance Center, 6406J Environmental Protection Agency, 1200 Pennsylvania Ave. NW., Washington, DC 20460; telephone number: 202-343-9017 fax number: 202-343-2800; email address: heard.geanetta@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA would like to continue collecting notifications from gasoline retailers and wholesale purchaser-consumer related to commingling of ethanol blended and non-ethanol blended reformulated gasoline. The test results will allow EPA to monitor compliance with the Reformulated Gasoline Commingling Provisions. We inform respondents that they may assert claims of business confidentiality (CBI) for information they submit in accordance with 40 CFR Part 2203.

Form Numbers: None.

Respondents/affected entities: Gasoline stations, Gasoline stations with convenience stores, Gasoline stations without convenience stores.

Respondent's obligation to respond: mandatory Sections 114 and 208 of the Clean Air Act (CAA), 42 U.S.C. 7414 and 7542.

Estimated number of respondents: 84,050.

Frequency of response: Annually.

Total estimated burden: 21,013 hours (per year). Burden is defined at 5 CFR 1320.03(b).

Total estimated cost: $357,221 (per year), includes $0 annualized capital or operation & maintenance costs.

Changes in Estimates: The change in burden from the prior ICR is due in part to better numbers extracted from business and industry economic statistics that assisted in calculating the numbers of respondents. These better numbers reduced the party size by 13,650 members. The number of responses also declined from 110,700 to 84,050 a difference of 26,650 reports which reduced the industry burden hours from 27,675 to 21,013. We also found that the original cost per response was overstated by a factor of 2. With the decline of respondents, burden hours and responses, and revisit cost per response, the cost to renew this ICR is $357,221 a difference of $528,379 calculated from the prior collection approved by OMB.

Dated: March 27, 2013.
Byron Bunker,
Director, Compliance Division.

[FR Doc. 2013-07771 Filed 4-2-13; 8:45 am]

BILLING CODE 6560-50-P